DEPARTMENT OF COMMERCE

International Trade Administration

[A-A-351-819, A-427-811]

Stainless Steel Wire Rods From Brazil and France: Revocation of Antidumping Duty Order

AGENCY: Import Administration, International Trade Administration, Department of Commerce.

SUMMARY: On July 1, 2005, the Department of Commerce (the Department) initiated sunset reviews of the antidumping duty (AD) orders on stainless steel wire rods from Brazil, France, and India, pursuant to section. Pursuant to section 751(c) of the Tariff Act of 1930, as amended (the Act), the International Trade Commission (the ITC) determined that revocation of these orders would not be likely to lead to continuation or recurrence of material injury to an industry in the United States within a reasonably foreseeable time. Therefore, pursuant to section 751(d)(2) of the Act and 19 CFR 351.222(i)(l)(iii), the Department is revoking the AD orders on stainless steel wire rods from Brazil and France.

EFFECTIVE DATE: August 2, 2005.

FOR FURTHER INFORMATION CONTACT: Jacqueline Arrowsmith or Dana Mermelstein, AD/CVD Operations, Office 6, Import Administration, International Trade Administration, U.S. Department of Commerce, 14th Street & Constitution Avenue, NW., Washington, DC 20230; telephone: (202) 482-5255 and (202) 482-1391, respectively.

SUPPLEMENTARY INFORMATION:

Scope of the Orders

Imports covered by these orders are certain stainless steel wire rods (SSWR) from Brazil and France. SSWR are products which are hot-rolled or hot-rolled annealed and/or pickled rounds, squares, octagons, hexagons, or other shapes, in coils. SSWR are made of alloy steels containing, by weight 1.2 percent or less of carbon and 10.5 percent of chromium, with or without other elements. These products are only manufactured by hot-rolling and normally sold in coiled form, and are solid cross-section. The majority of SSWR sold in the United States are round in cross-section shape, annealed and pickled. The most common size is 5.5 millimeters in diameter.

The merchandise subject to these orders is currently classifiable under subheadings 7221.00.0005, 7221.00.0015, 7221.00.0030, 7221.00.0045, 7221.00.0075 of the Harmonized Tariff Schedule of the United States (HTSUS).¹ The HTSUS subheadings are provided for convenience and customs purposes. The written description remains dispositive.

¹ The merchandise subject to the scope of these orders was originally classifiable under all of the following HTS subheadings: 7221.00.0005, 7221.00.0015, 7221.00.0020, 7221.00.0030, 7221.00.0040,7221.00.0045, 7221.00.0060, 7221.00.0075, and 7221.00.0080. HTSUS subheadings 7221.00.0020, 7221.00.0040, 7221.00.0060, 7221.00.0080 are no longer contained in the HTSUS.

Background

On January 28, 1994, the Department published Antidumping Duty Order: Certain Stainless Steel Wire Rods from Brazil, 59 FR 4021 and the Amended Final Determination and Antidumping Duty Order: Certain Stainless Steel Wire Rods from France, 59 FR 4022. On August 2, 2000, the Department published the Continuation of Antidumping Duty Orders: Stainless Steel Wire Rod from Brazil, France, and India, 65 FR 47403.

On July 1, 2005, the Department initiated, and the ITC instituted, sunset reviews of the AD orders on stainless steel wire rods from Brazil and France. See Initiation of Five-Year (Sunset) Reviews, 70 FR 38101 (July 1, 2005).

As a result of its sunset reviews of these orders, the Department found that revocation of these orders would be likely to lead to continuation or recurrence of dumping. See Stainless Steel Wire Rods from Brazil, France, and India; Notice of Final Results of Five-year (Sunset) Reviews of the Antidumping Duty Orders, 70 FR 67447 (November 7, 2005). The Department notified the ITC of the magnitude of the margins likely to prevail were the AD orders to be revoked.

On June 29, 2006, the ITC determined, pursuant to section 751(c) of the Act, that revocation of these orders would not be likely to lead to continuation or recurrence of material injury to an industry in the United States within a reasonably foreseeable time. See Stainless Steel Wire Rod from Brazil, France and India, Investigations Nos. 731-TA-636, 731-TA-637, and 731-TA-638 (Second Review), 70 FR 38207 (July 1, 2005).

Determination

As a result of the determination by the ITC that revocation of these orders is not likely to lead to the continuation or recurrence of material injury to an industry in the United States, the Department, pursuant to section 751(d) of the Act is revoking the AD orders on SSWR from Brazil and France. Pursuant to section 751(d)(2) of the Act and 19 CFR 351.222(i)(2)(i), the effective date of the revocation is August 2, 2005 (i.e., the fifth anniversary of the date of publication in the Federal Register of the notices of continuation of these AD orders.) The Department will notify U.S. Customs and Border protection to discontinue suspension of liquidation and collection of cash deposits on entries of subject merchandise entered or withdrawn from warehouse on or after August 2, 2005, the effective date of revocation of these orders. The Department will complete any administrative reviews of these orders and will conduct administrative reviews of subject merchandise entered prior to the effective date of revocation in response to appropriately filed requests for review.

These five-year (sunset) reviews and this notice are in accordance with section 751(d)(2) and published pursuant to section 777(i)(1) of the Act.

Dated: August 1, 2006.
David M. Spooner,
Assistant Secretary, for Import Administration.

[FR Doc. E6-12861 Filed 8-7-06; 8:45 am]

BILLING CODE 3510-DS-P